DEPARTMENT OF TRANSPORTATION

Federal Aviation Administration

14 CFR Part 39

[Docket No. 97-ANE-06-AD]

RIN 2120-AA64

Airworthiness Directives; McCauley Propeller Systems 1A103/TCM Series Propellers

AGENCY: Federal Aviation Administration, DOT.

ACTION: Notice of proposed rulemaking (NPRM).

SUMMARY: The Federal Aviation Administration (FAA) proposes to supersede an existing airworthiness directive (AD), applicable to McCauley Propeller Systems 1A103/TCM series propellers. That AD currently requires an initial inspection for cracks in the propeller hub in accordance with a dye penetrant inspection procedure, replacement of propellers with cracks that do not meet acceptable limits, rework of propellers with cracks that meet acceptable limits, and repetitive inspections of all affected propellers. This proposal would allow additional rework operations to be performed at more than one bolt hole location. This proposal is prompted by the need to clarify the requirement to use a steel backing plate and Mylar gasket during installation of the propeller, and to relax the replacement requirements. The actions specified in the proposed AD are intended to prevent propeller separation due to hub fatigue cracking, which can result in loss of control of the airplane.

DATES: Comments must be received by November 26, 2002.

ADDRESSES: Submit comments in triplicate to the Federal Aviation Administration (FAA), New England Region, Office of the Regional Counsel, Attention: Rules Docket No. 97-ANE-06-AD, 12 New England Executive Park, Burlington, MA 01803-5299. Comments may be inspected at this location, by appointment, between 8:00 a.m. and 4:30 p.m., Monday through Friday, except Federal holidays. Comments may also be sent via the Internet using the following address: “9-ane-adcomment@faa.gov.” Comments sent via the Internet must contain the docket number in the subject line.

The service information referenced in the proposed rule may be obtained from McCauley Propeller Systems, 3535 McCauley Drive, P.O. Drawer 5053, Vandalia, OH 45377-5053; telephone: 937-890-5246; fax: 937-890-6001. This information may be examined, by appointment, at the FAA, New England Region, Office of the Regional Counsel, 12 New England Executive Park, Burlington, MA.

FOR FURTHER INFORMATION CONTACT: Timothy Smyth, Aerospace Engineer, Chicago Aircraft Certification Office, FAA, Small Airplane Directorate, 2350 East Devon Avenue, Room 323, Des Plaines, IL 60018; telephone: (847) 294-7132; fax: (847) 294-7834.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 97-ANE-06-AD.” The postcard will be date stamped and returned to the commenter.

Availability of NPRM's

Any person may obtain a copy of this NPRM by submitting a request to the FAA, New England Region, Office of the Regional Counsel, Attention: Rules Docket No. 97-ANE-06-AD, 12 New England Executive Park, Burlington, MA 01803-5299.

Discussion

On March 11, 1997, the Federal Aviation Administration (FAA) issued airworthiness directive (AD) 97-06-16, Amendment 39-9973 (62 FR 16064, April 4, 1997), to require an initial inspection for cracks in the propeller hub using a dye penetrant inspection procedure, replacement of propellers with cracks that do not meet acceptable limits, rework of propellers with cracks that meet acceptable limits, and repetitive inspections of all affected propellers. That action was prompted by the propeller manufacturer's development of a dye penetrant inspection procedure that will more accurately detect cracking. The requirements of that AD are intended to prevent propeller separation due to hub fatigue cracking, which can result in loss of control of the airplane.

Events Since the Issuing of AD 97-06-16

Since AD 97-06-16 was issued, the propeller manufacturer has issued a revised service bulletin that recommends changing the requirement to remove and replace a previously reworked propeller, if there is a crack at another bolt hole. The revised service bulletin now allows for additional rework on some propellers that have already undergone rework. Also, the revised service bulletin now requires painting the propeller hub before installation of the propeller. This AD would incorporate the revised service bulletin.

In addition, the FAA received comments to the current AD that was issued as a final rule, request for comments. One comment points out that the AD does not explicitly require installation of the propeller in accordance with the service bulletin, which calls for installation of a steel backing plate and Mylar gasket when the propeller is installed. Since the FAA intended that the propeller be reinstalled with the steel backing plate and Mylar gasket, this proposal would include an explicit requirement to install the propeller in accordance with the revised service bulletin.

Also, one other comment asks if the term “3,000 or more hours time-in-service” in the AD has the same meaning as the term “3,000 hours or more total time in service” as used in the service bulletin. The FAA believes that the two terms are synonymous, and, therefore, no changes to the term used in the AD are proposed. Even if there were a difference, however, the compliance time specified in the AD would take precedence over any compliance time stated in the service bulletin.

Manufacturer's Service Information

The FAA has reviewed and approved the technical contents of McCauley Propeller Systems Alert Service Bulletin (ASB) 221C, dated September 7, 1999, that describes procedures for dye penetrant inspections and rework of affected propellers. ASB 221C also provides procedures for installation of the propeller using a steel backing plate and Mylar gasket.

FAA's Determination of an Unsafe Condition and Proposed Actions

Since an unsafe condition has been identified that is likely to exist or develop on other propellers of this same type design, this proposal would supersede AD 97-06-16 to require:

• An initial inspection for cracks in the propeller hub in accordance with a dye penetrant inspection procedure.

• Replacement of propellers with cracks that do not meet acceptable limits.

• Rework of propellers with cracks that meet acceptable limits.

• Painting of the propeller hub before installation of the propeller

• Repetitive inspections of all affected propellers.

• Installation of a steel backing plate and Mylar gasket during installation of the propeller.

The actions would be required to be done in accordance with the service bulletin described previously.

Economic Analysis

There are approximately 6,100 propellers of the affected design in the worldwide fleet. The FAA estimates that approximately 3,000 propellers installed on airplanes of U.S. registry would be affected by this proposed AD. The FAA also estimates that it would take approximately 3 work hours per propeller to perform the proposed actions, and that the average labor rate is $60 per work hour. Required parts would cost approximately $17 per propeller. Based on these figures, the total cost of the proposed AD to U.S. operators is estimated to be $591,000 per year.

Regulatory Analysis

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-9973, (62 FR 16064, April 4, 1997), and by adding a new airworthiness directive:

McCauley Propeller Systems: Docket No. 97-ANE-06-AD. Supersedes AD 97-06-16, Amendment 39-9973.

Applicability

This airworthiness directive (AD) is applicable to McCauley Propeller Systems 1A103/TCM series propellers with numeric serial numbers 770001 through 777390; and propellers with alphanumeric serial numbers BC001 up to, but not including KC001. These propellers are installed on but not limited to Cessna 152, Cessna A152, Reims F152, and Reims FA152 series airplanes. All alphanumeric serial number propellers beginning with the letters “B” through “J” are affected by this AD.

Note 1: This AD applies to each propeller identified in the preceding applicability provision, regardless of whether it has been modified, altered, or repaired in the area subject to the requirements of this AD. For propellers that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Compliance with this AD is required as indicated below, unless already done.

To prevent propeller separation due to hub fatigue cracking, which can result in loss of control of the airplane, do the following:

Inspection and Rework Requirements

(a) Inspect propellers, rework or replace with a serviceable propeller, as necessary, and install in accordance with Sections II, III, IV, and V of McCauley Propeller Systems Alert Service Bulletin (ASB) No. 221C, dated September 7, 1999, as follows:

(1) For propellers with 3,000 or more hours time-in-service (TIS), or unknown TIS, on the effective date of this AD, as follows:

(i) If not already done, perform an initial dye penetrant inspection in accordance with Section II of the ASB before further flight.

(ii) Thereafter, perform repetitive dye penetrant inspections in accordance with Section IV of the ASB at intervals not to exceed 800 hours TIS, or 12 calendar months since last dye penetrant inspection, whichever occurs first.

(iii) If cracks are discovered that are not within the rework limits described in Section III of the ASB, before further flight remove the propeller from service and replace with a serviceable propeller.

(iv) If cracks are discovered that are within the rework limits described in Section III of the ASB, before further flight rework the propeller in accordance with Section III of the ASB, and resume inspecting repetitively in accordance with paragraph (a)(1)(ii) of this AD.

(2) For propellers with less than 3,000 hours TIS on the effective date of this AD, upon accumulating 3,000 hours TIS perform the steps required by paragraph (a)(1)(i) through (a)(1)(iv) of this AD.

(b) Paint camber side of the propeller in accordance with Section II or Section III of the ASB.

(c) Install propeller in accordance with Section V of the ASB.

Alternative Methods of Compliance

(d) An alternative method of compliance or adjustment of the compliance time that provides an acceptable level of safety may be used if approved by the Manager, Chicago Aircraft Certification Office (CHIACO). Operators must submit their requests through an appropriate FAA Principal Maintenance Inspector, who may add comments and then send it to the Manager, CHIACO.

Note 2: Information concerning the existence of approved alternative methods of compliance with this airworthiness directive, if any, may be obtained from the CHIACO.

(e) Special flight permits may be issued in accordance with §§ 21.197 and 21.199 of the Federal Aviation Regulations (14 CFR 21.197 and 21.199) to operate the airplane to a location where the requirements of this AD can be done.

Issued in Burlington, Massachusetts, on September 18, 2002.
Francis A. Favara,
Acting Manager, Engine and Propeller Directorate, Aircraft Certification Service.

[FR Doc. 02-24544 Filed 9-26-02; 8:45 am]

BILLING CODE 4910-13-P